SECURITIES AND EXCHANGE COMMISSION

17 CFR Parts 200, 230, 232, 239, 240, 249 and 260

[Release Nos. 33-9741B; 34-74578B; 39-2501B; File No. S7-11-13]

RIN 3235-AL39

Amendments for Small and Additional Issues Exemptions Under the Securities Act (Regulation A)

AGENCY: Securities and Exchange Commission.

ACTION: Final rule; correction.

SUMMARY: This document corrects the designation of a paragraph in Item 6 of Part I to Form 1-A in a final rule published in the Federal Register of April 20, 2015, regarding the Amendments for Small and Additional Issues Exemptions under the Securities Act (Regulation A).

DATES: This correction is effective June 19, 2015.

FOR FURTHER INFORMATION CONTACT: Linda Cullen, Office of the Secretary at (202) 551-5400.

SUPPLEMENTARY INFORMATION: In FR Document No. 2015-07305 beginning on page 21806 for Monday, April 20, 2015, the following correction is made:

Form 1-A [Corrected]

On page 21906, in the first column, third line, paragraph (e) of Form 1-A is redesignated as paragraph (d).

Dated: June 16, 2015.
Brent J. Fields,
Secretary.

[FR Doc. 2015-15146 Filed 6-18-15; 8:45 am]

BILLING CODE 8011-01-P